DEPARTMENT OF JUSTICE

Antitrust Division

Notice Pursuant to the National Cooperative Research and Production Act of 1993—Rare Earth Industry and Technology Association

Notice is hereby given that, on March 22, 2010, pursuant to Section 6(a) of the National Cooperative Research and Production Act of 1993, 15 U.S.C. 4301 et seq. (“the Act”), the Rare Earth Technology Consortium (“RETC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Rare Earth Industry and Tecimology Association, Greenwood Village, CO; Global Tungsten & Powders Corp., Towanda, PA; General Electric Company, Niskayuna, NY; Arnold Magnetic Technologies Corp., Rochester, NY; Electron Energy Corp., Landisville, PA; Colorado School of Mines, Golden, CO; Worcester Polytechnic Institute, Worcester, MA; Iowa State University, Ames, IA; University of Delaware, Newark, DE; Rare Element Resources, Vancouver, British Columbia, CANADA; and Molycorp Minerals LLC, Greenwood Village, CO. The general areas of RETC's planned activities are to (a) improve the business conditions of entities engaged in all points of the production chain for rare earths magnets and other materials and products beginning with extraction of rare earths and ending with marketing and sale of such materials and products (“Rare Earth Companies”), while providing guidance for such companies to act as responsible stewards of rare earth resources; (b) promote the common business interests of Rare Earth Companies by establishing a consortium compromised of commercial, charitable, academic and state and local government organizations that work together to identify, develop, manage and implement rare earth projects that benefit for profit, nonprofit, government and charitable entities, including, without limitation, military and commercial entities, and in doing so to commercialize rare earth research, technology and use for dual-purpose military/civilian use; (c) create an effective teaming environment among its members for purposes of identifying rare earth related opportunities that can be developed into applications that serve military and commercial markets through shared public and private investment; and (d) enter into, or coordinate with Rare Earth Industry and Technology Association (REITA) and/or the individual members of the Consortium as they enter into, agreements with the U.S. Army (REITA and the U.S. Army shall designate the parties to each such agreement) known as a “Section 845 Other Transactions Agreement” or “OTA” for the purpose of funding certain work to be conducted in partnership with the U.S. government and the Consortium or any one or more of its members acting through the Consortium for the benefit of the U.S. Army Armament Research, Development and Engineering Center (“ARDEC”) to utilize rare earth products and technology to enhance the U.S. military's war fighting capabilities for the national defense.

Patricia A. Brink,
Deputy Director of Operations, Antitrust Division.

[FR Doc. 2010-10465 Filed 5-6-10; 8:45 am]

BILLING CODE 4410-11-M